DEPARTMENT OF ENERGY

Federal Energy Regulatory Commission

[P-13123-002-CA]

Eagle Mountain Pumped Storage Hydroelectric Project; Eagle Crest Energy; Notice of Meeting Postponement

On July 17, 2012, the Commission issued a “NOTICE OF MEETING WITH THE BUREAU OF LAND MANAGEMENT”. That meeting was scheduled to occur on Wednesday, August 15, 2012, at 9 a.m. (Pacific Time), and on Thursday, August 16, 2012, at 9 a.m. (if needed). The purpose of the meeting is to provide Commission staff and the staff of the Bureau of Land Management an opportunity to improve agency coordination and discuss the agencies' overlapping jurisdictions (pursuant to the Federal Land Policy and Management Act and the Federal Power Act), on the Eagle Mountain Pumped Storage Hydroelectric Project. However, the meeting has been postponed.

Notice of the date, time, and location of the meeting will be provided in a future notice upon the meeting's rescheduling. Any questions regarding this notice should be directed to Kenneth Hogan at: (202) 502-8434, or via email at: Kenneth.Hogan@ferc.gov.

Dated: August 3, 2012.
Kimberly D. Bose,
Secretary.

[FR Doc. 2012-19507 Filed 8-8-12; 8:45 am]

BILLING CODE 6717-01-P